NUCLEAR REGULATORY COMMISSION

Advisory Committee on Reactor Safeguards (ACRS); Subcommittee Meeting on Thermal-Hydraulic Phenomena; Revised

The ACRS Subcommittee meeting on Thermal-Hydraulic Phenomena scheduled for Monday, February 26 and Tuesday, February 27, 2007, 11545 Rockville Pike, Rockville, Maryland in Room T-2B3 has been rescheduled for a one day meeting on Tuesday, February 27, 2007. All other items pertaining to this meeting remain the same as published previously in the Federal Register on Tuesday, January 30, 2007 (72 FR 4303).

For Future Information Contact: Mr. Ralph Caruso, cognizant ACRS staff engineer (Telephone: 301-415-8065) between 7:30 a.m. and 4:15 p.m. (ET) or by e-mail rxc@nrc.gov.

Dated: February 8, 2007.
David C. Fischer,
Acting Branch Chief, ACRS/ACNW.

[FR Doc. E7-2603 Filed 2-14-07; 8:45 am]

BILLING CODE 7590-01-P